ENVIRONMENTAL PROTECTION AGENCY

[EPA-HQ-OPPT-2023-0351; FRL-11152-01-OCSPP]

Definition of Lead-Based Paint Joint Virtual Workshop; Notice of Public Meeting and Request for Comments

AGENCY: Environmental Protection Agency (EPA).

ACTION: Notice.

SUMMARY: The Environmental Protection Agency (EPA) is co-hosting a virtual workshop with the Department of Housing and Urban Development (HUD) on October 17 and 18, 2023, to hear stakeholder perspectives on specific topics related to detection of and exposure to potential lead hazards from existing residential lead-based paint. This virtual workshop will be used to gather stakeholder input on innovative methods to address lead in paint and reduce lead exposure across the United States. EPA and HUD will use information shared during the workshop to inform their joint effort to revisit the federal definition of lead-based paint and revise it, if necessary. This document announces the virtual workshop and provides essential details for potential presenters and attendees in terms of registration, related activities and important dates.

DATES: Presenter Abstracts: If you wish to make a presentation at the virtual workshop, submit an abstract for your presentation on or before August 4, 2023. EPA and HUD will review the abstracts to determine appropriateness and sequencing for inclusion on the workshop agenda. Presentation abstracts and final materials for each presentation will be made available in the docket before the meeting.

Virtual Public Meeting: Will be held virtually on October 17 and 18, 2023, from 10:00 a.m. to approximately 5:00 p.m. (EDT) each day. See the additional details and instructions for registration that appear in Unit II of this document.

Written Comments: Submit your written comments on or before December 31, 2023.

Special accommodations: Requests for special accommodations should be submitted on or before September 29, 2023, to allow EPA time to process these requests.

ADDRESSES: Virtual Public Meeting: You must register online to receive the webcast meeting link and audio teleconference information. Please follow the registration instructions that will be announced on the lead program website at: https://www.epa.gov/lead/2023-lead-based-paint-technical-workshop by September 29, 2023. For additional instructions related to this meeting, see Unit II.

Written Comments: Submit written comments, identified by docket identification (ID) number EPA-HQ-OPPT-2023-0351, through the Federal eRulemaking Portal at https://www.regulations.gov. Follow the online instructions for submitting comments. Do not electronically submit any information you consider to be Confidential Business Information (CBI; broadly defined as proprietary information, considered confidential to the submitter, the release of which would cause substantial business injury to the owner) or other information whose disclosure is restricted by statute. Additional information on commenting or visiting the docket, along with more information about dockets generally, is available at https://www.epa.gov/dockets.

Special accommodations: For information on access or services for individuals with disabilities, and to request accommodation for a disability, please contact Catherine Taylor, listed under FOR FURTHER INFORMATION CONTACT.

FOR FURTHER INFORMATION CONTACT: Catherine Taylor, Office of Chemical Safety and Pollution Prevention, Environmental Protection Agency, 1200 Pennsylvania Ave. NW, Washington, DC 20004; telephone number: (202) 566-3008; email address: taylor.catherine@epa.gov. Individuals who have speech or other communication disabilities may use a relay service to reach the contact phone number provided. To learn more about how to make an accessible telephone call, visit the web page for the Federal Communications Commission's Telecommunications Relay Service, https://www.fcc.gov/consumers/guides/telecommunications-relay-service-trs.

SUPPLEMENTARY INFORMATION:

I. Executive Summary

A. Does this action apply to me?

This notice is directed to the public in general. This notice may be of specific interest to persons who conduct or may be interested in lead-based paint (LBP) inspections, lead hazard screens, risk assessments, renovations, paint testing, interim controls, or abatements under the Toxics Substance Control Act or the Lead-Based Paint Poisoning Prevention Act. This workshop may be of specific interest to federal, state, local, and tribal regulators, LBP activities and Lead Renovation, Repair and Painting (RRP) experts and professionals, paint manufacturers, x-ray fluorescence (XRF) technology developers and manufacturers, lead test kit developers and users, lead testing laboratories, childhood lead exposure medical and health experts, environmental and community organizations, and academic researchers. Since other entities may also be interested in this notice, the EPA has not attempted to describe all the specific entities that may be interested in this subject.

B. Why are EPA and HUD having this workshop?

As part of EPA's and HUD's joint effort to revisit the definition of LBP, this virtual workshop will gather critical input on innovative methods to address lead in paint and reduce lead exposure from lead in paint across the United States. The workshop will focus on current and emerging measurement technologies used to quantify lead in paint relevant to EPA's Lead Renovation, Repair and Painting (RRP) program, EPA's Lead-Based Paint Activities (LBPA) program, HUD's Lead Safe Housing Rule (LSHR), and both agencies' joint Lead Disclosure Rule, and how those technologies could be applied for low levels of lead in residential paint. Through the workshop, EPA and HUD also seek to obtain new information on LBP characteristics (e.g., density and components) and any medical evidence related to adverse impacts to humans as a result of exposure to low levels of lead in paint to help with EPA and HUD's reevaluation of the definition of LBP.

EPA and HUD define LBP as paint with lead levels that equal or exceed one milligram per square centimeter (mg/cm²), or equal or exceed 0.5 percent by weight. Although LBP was banned for residential use in 1978, many homes built before 1978 still contain LBP, a major source of childhood lead exposure. EPA and HUD have prioritized addressing the dangers of childhood lead exposure through EPA's 2022 Strategy to Reduce Lead Exposures and Disparities in U.S. Communities, HUD's 2022-2026 Strategic Plan Focus Areas, and the 2018 Federal Lead Action Plan, all of which commit to reducing exposure to lead in homes with LBP.

C. What topics will be covered at the workshop?

EPA and HUD are seeking presenters possessing specific expertise for this workshop. If you are interested in being a presenter, please submit an abstract of your presentation by the deadline presented in DATES to allow EPA and HUD to review an determine appropriateness for the workshop and sequencing for the agenda. In addition to the topics mentioned previously, EPA and HUD are also interested in presentations on the following topics:

• Empirical information and/or the identification of modeling tools that characterize the relationship between levels of lead in paint <0.5% and <1 mg/cm² and levels of lead in dust, considering paint condition, maintenance, age, and other factors;

• Information on input, data sources and parameters for the exposure scenarios for considering LBP regulations, including: the frequency and characteristics of renovations, maintenance activities, paint flaking and deterioration, and other scenarios that result in the generation of dust-lead from lead in paint below 0.5% and 1 mg/cm²; uncertainty due to other sources of dust lead aside from lead in paint; and data for characterizing the direct ingestion pathway from lead in paint below 0.5% and 1 mg/cm², including quantitative measures of ingestion and exposure (duration, frequency, paint chip characteristics);

• Empirical data that provides paint density for different mass fractions of LBP, and other information to assist in the possible development of a conversion equation between the two units used to define LBP (one definition being in milligrams per square centimeter, and the other a percentage by weight), as well as information on confounding considerations that might make such a conversion unsupported;

• Consideration of LBP metrics under varied field conditions such as the following: lead detection/measurement technologies used in the laboratory and in the field; technical insights and limitations to extending XRF “thresholds” (analogous to reporting limits) to or below 0.5 mg/cm², if any; performance of XRFs on layers of differing concentrations of lead in paint, measuring through encapsulants, and on a single layer of new paint; implications of material underlying paint (e.g., old paint layers, plaster, metal, and concrete) on the reliability of lead detection estimates; and capabilities and limitations of alternative lead detection technologies;

• Considerations for comparing rhodizonate-based and other lead test kit results to other technology results, especially for lower levels of lead in paint;

• Consideration of how the distribution of lead in paint in U.S. housing affects the programmatic implications and estimates of health benefits of a lower LBP definition; and

• Consideration of any medical evidence that quantitatively supports the imposition of a lower level of lead in defining LBP.

D. How are EPA and HUD seeking public input?

Through this Federal Register document, EPA and HUD are announcing the intention to have a virtual public workshop on October 17 and 18, 2023, to hear stakeholder perspectives on specific topics related to detection of and exposure to potential lead hazards from existing residential paint using lower levels of lead than in the current definition of LBP. In addition to the presentations discussed previously, the workshop will include several audience question and answer segments as another means of hearing stakeholder perspectives. In addition, EPA and HUD are seeking abstracts from potential presenters.

E. How can I access information about the meeting or submit an abstract for consideration?

Information about this meeting is available at https://www.epa.gov/lead/2023-lead-based-paint-technical-workshop and in the docket for this meeting, identified by docket ID number EPA-HQ-OPPT-2023-0351, at https://www.regulations.gov.

The agenda and instructions for registration and for submitting abstracts for this meeting will be added to the EPA website and public docket established for this meeting at https://www.regulations.gov; docket ID number EPA-HQ-OPPT-2023-0351.

After the virtual public meeting, EPA will prepare meeting minutes summarizing the meeting. The meeting minutes will be posted on the EPA website and in the docket.

II. Public Participation Instructions

To participate in the virtual public meeting, please follow the instructions in this unit.

A. How can I provide comments?

To ensure proper receipt of comments it is imperative that you identify docket ID number EPA-HQ-OPPT-2023-0351 in the subject line on the first page of your request.

1. Written comments. Comments should be submitted using the instructions in ADDRESSES and in Units I.B. and C, on or before the date set in the DATES section. Anyone submitting written comments after this date should contact the individual listed under FOR FURTHER INFORMATION CONTACT.

2. Submitting CBI. Do not submit CBI information to EPA through https://www.regulations.gov or email. If your comments contain any information that you consider to be CBI or otherwise protected, please contact the individual listed under FOR FURTHER INFORMATION CONTACT to obtain special instructions before submitting your comments.

3. Tips for preparing your comments. When preparing and submitting your comments, see Tips for Effective Comments at https://www.epa.gov/dockets. Please note that once submitted, comments cannot be edited or removed from the docket. The EPA may publish any comment received to its public docket.

B. How can I participate in the virtual public meeting?

This meeting will be virtual and will be viewable via webcast. EPA intends to announce registration instructions, as well as abstract submission instructions, on the EPA website and in the public docket.

Authority: 15 U.S.C. 2601 et seq.

Dated: July 5, 2023.
Michal Freedhoff,
Assistant Administrator, Office of Chemicals Safety and Pollution Prevention.

[FR Doc. 2023-14682 Filed 7-11-23; 8:45 am]

BILLING CODE 6560-50-P